DEPARTMENT OF STATE

[Public Notice 5593]

Bureau of Educational and Cultural Affairs (ECA) Request for Grant Proposals: Iraqi Young Leaders Exchange Program

Announcement Type: New Grant.

Funding Opportunity Number: ECA/PE/C/PY-07-10.

Catalog of Federal Domestic Assistance Number: 00.000.

Application Deadline: December 13, 2006.

Executive Summary: The Office of Citizen Exchanges, Youth Programs Division, of the Bureau of Educational and Cultural Affairs announces an open competition for the Iraqi Young Leaders Exchange Program. Public and private non-profit organizations meeting the provisions described in Internal Revenue Code section 26 U.S.C. 501(c)(3) will submit proposals to recruit and select English-speaking high school students in Iraq and conduct month-long projects in the United States for student groups that focus on leadership development and civic education.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic, and peaceful relations between the United States and the other countries of the world.” The funding authority for the program above is provided through legislation.

Purpose: The Iraqi Young Leaders Exchange Program is being introduced to offer youth from Iraq an opportunity to learn about the United States, to develop their leadership skills, and to develop friendships. The Office of Citizen Exchanges' Youth Programs Division, through the Iraqi Young Leaders Exchange Program, will sponsor approximately 200 Iraqi exchange participants, ages 15-17, in a series of intensive one-month-long projects in the summers of 2007 and 2008. Programs will be designed to provide educational and recreational opportunities to experience a democratic and free society firsthand.

The Office of Citizen Exchanges' Youth Programs Division will bring 100 young people from Iraq to the United States through a series of month-long programs in the summer of 2007 and a minimum of 100 students in the summer of 2008. The grant recipient organizations will recruit, screen, and select the exchange participants, in consultation with, but without reliance on the U.S. Embassy in Baghdad. The grantee organization will prepare the students for both the content and the logistics of the exchange. Students will travel to the United States in groups of 20 to 30 with adult accompaniment.

Grant recipient organizations will be responsible for the entire cycle of each program to include: Recruitment, screening and selection of Iraqi and American students; management of travel documents, international and domestic airline reservations for students and adult chaperones; preparation and oversight of all programmatic components in the U.S.; provision of follow on activities and support for grantee alumni.

For each summer's program, an applicant organization will plan to recruit between 20 and 100 exchange participants in Iraq. There is no limit on the number of groups each applicant plans to organize. However, since a delegation will include between 20 and 30 students, any organization that plans to recruit more than 30 participants will also need to propose to arrange U.S. program activity for more than one delegation. ECA intends to award multiple grants in order for 100 students to travel to the U.S. for each summer's program. Applicant organizations will be responsible for arranging all activities in the U.S. directly or in collaboration with partner organizations, which must be identified in the proposal. The applicant will take into account that Iraqi students may have little or no prior knowledge of the United States and varying degrees of experience in expressing their opinions in a classroom setting, therefore, component activities will be tailored accordingly. Every effort will be made to encourage active student participation in all aspects of a program.

Components for each program group will include: (A) A two-week period of community stays with activities designed to enhance student leadership skills, expose students to grass-roots democratic institutions and processes, and strengthen English language proficiency; (B) a week at a camp or other summer program site where students can have structured interaction with American youth and with each other; and (C) a civic education week in Washington, DC for Iraqi students only. Follow-up activities in Iraq for alumni from each grant recipient alumni will be designed to reinforce the lessons learned on the exchange and enable the alumni to apply their new skills in their community.

A successful project will be one that nurtures a cadre of students to be actively engaged in addressing issues in their schools and communities upon their return home and that equips students with the knowledge, skills, and confidence to do so. By the end of the program, students will also have developed relationships with their peers in the United States and within their delegation, will have gained an accurate impression of the people of the U.S., and will have an understanding of the values of democracy and freedom and the role they play in how Americans conduct their lives.

Goals:

• To promote mutual understanding between the United States and the people of Iraq;

• To develop a sense of civic responsibility and commitment to community development among youth; and

• To foster relationships among youth from different ethnic, religious, and national groups.

Applicants will identify their own specific program objectives as well as measurable outcomes based on the program goals and specifications provided in this solicitation. Applicants will outline their capacity for doing projects of this nature, focusing on three areas of competency: (1) Provision of leadership and civic education programming, (2) age-appropriate programming for youth, and (3) prior work with individuals from the Middle East.

Iraq-based Activity: Recipients of the grant will demonstrate a capacity to work effectively in Iraq and manage the following activities in consultation with, but without reliance on the U.S. Embassy in Baghdad.

(1) Recruit, screen, and select 20 to 100 Iraqi high school students, ages 15-17, for month-long programs in the United States during summer 2007, with an additional, similar cycle of recruitment for programs in the summer of 2008. Recruitment and selection will be coordinated in partnership with the Public Affairs Section (PAS) at the U.S. Embassy in Baghdad.

(2) Assist selected participants with obtaining J-1 visas to the United States with sufficient lead-time. Submit requests for DS-2019 forms and U.S. visa applications to the Youth Programs Division of the Bureau of Educational and Cultural Affairs and U.S. Embassy in Baghdad at least 100 days before the beginning of travel to the United States.

(3) Provide pre-departure orientations in a third country for all Iraqi students chosen to participate.

(4) Serve as liaison with natural parents.

(5) Provide international roundtrip travel arrangements to Washington, DC for students and adult chaperones.

(6) Coordinate with and oversee partner organizations that will be providing context for U.S. program activity.

(7) Manage in-country follow-on activities designed for grantee organization alumni.

(8) Consult with and make alumni contact information available to the organization selected to implement the All-Alumni Conference.

(9) Create and manage an online communication portal for grantee organization alumni to continue dialogue and carry out action plans that promote program objectives. The portal can also be used to track alumni addresses, and will take every precaution to safeguard student security.

U.S.-based Activity: The grant recipients will be responsible for the following by administering the activities directly or through partner organizations.

(1) Recruit and select American youth who will participate in the camp.

(2) Recruit and select American host families.

(3) Provide orientations for American families and youth, and a welcome orientation for Iraqi participants.

(4) Design and plan activities that provide a substantive program on civic education and leadership through both academic and extracurricular components.

(5) Manage logistical arrangements, disburse stipends/per diem, and arrange domestic travel, and ground transportation travel between sites.

(6) Organize a closing session in Washington, DC to summarize program activities and prepare the Iraqi participants for their return home.

Participants: Selection will focus on teenagers, aged 15-17, from across Iraq who represent the ethnic, religious, and geographic diversity of the Iraqi population. Students should speak sufficient English to be able to communicate without interpretation. They should demonstrate an interest in the project theme and exhibit maturity, flexibility, and open-mindedness.

Each program will also include American students, also aged 15-17, who will be recruited and selected by the grant recipient organization or their partner organization. The American students will have a demonstrated interest in the project theme and will exhibit maturity, flexibility, and open-mindedness.

Each program will involve a delegation from Iraq of between 20-30 participants. They will be joined by a delegation of American students for the camp component; these may or may not be the same American students who are involved in the community stay component. The group of selected American teenagers will be at least half the size of the Iraqi delegation (e.g., a delegation of 30 Iraqis will be joined by 15 American students). Applicants will specify the size and composition of each delegation in their proposal.

Each delegation will have adult accompaniment on the international flight to the United States, and adult staff will be available to support the participants during the course of each component of the exchange.

U.S. Program: Each of the month-long programs will begin and end in Washington, DC, starting with a two-day orientation and wrapping up with a civic education workshop and a one-day debriefing session. The homestay and camp experiences will allow Iraqi and American students to build relationships and will combine both recreational and substantive elements on such topics as conflict management, participatory democracy, community service, media literacy, ethics and accountability, and free enterprise. The U.S. program will focus primarily on interactive activities, practical experiences, and other hands-on opportunities to explore such topics. The activities of the project could include a mix of workshops, simulations and role-playing, meetings, classroom visits, shadowing, tours, training, and social time among peers. The civic education workshop will include briefings, simulations, and discussions on citizen participation and the fundamentals of the American democratic system of government.

The primary components are described here in more detail. Two weeks of community stay will take place after orientation sessions in Washington, DC to be followed by a one-week camp component. The civic education workshop in Washington, DC will take place during the last week of the exchange. Proposals will demonstrate how each program component links to the identified theme.

1. Community stay: During community stays, the Iraqi students will live with American families and witness everyday life in the United States. Members of the delegation can be placed in one or more community but will be clustered in small groups so that program activities are planned together. Brief English language sessions will be built into morning activities to build vocabulary and students can practice with their host families in the evening. Social, recreational, and cultural activities with host families will be balanced with supplementary activities organized by the grantee organization to provide an understanding of how a community works and local examples of democratic practices. Examples of activities include site visits to a courthouse, a media outlet, and/or a school; meetings with local government officials, non-profit organizations, and business leaders; or shadowing opportunities. At least one day each of leadership development training and of community service is required. Opportunities for students to interact with American teenagers will be included whenever appropriate. [Two weeks]

2. Camp: The venue for this “camp” may be an actual camp, but can also be a college campus, residential hotel, or other site that allows selected Iraqi and American students to build relationships in a relatively sheltered environment. During the week, students will explore in-depth a topic of interest to be identified by the applicant in its proposal. This topic of interest will be conflict management, participatory democracy, rule of law, media literacy, ethics and accountability, free enterprise, and/or other topics selected and justified by the applicant. Applicants are encouraged to include innovative activities or events in sports, math and science, and the arts that provide a cultural context regarding the topic being explored. [One week]

3. Civic education workshop: The civic education workshop in Washington, DC for Iraqi students only will include briefings, workshops, simulations, and discussions on citizen participation and the fundamentals of the American democratic system of government. Students will learn about the three branches of government and federalism, and in turn see how a system of checks and balances protects the rights of minorities for people of the country. Visits with Congressional and Executive branch representatives will be included. [One week]

The U.S. program activities must take place in any month-long period between June 20 and September 10, 2007 and in the same time period in summer 2008. Applicants will propose the periods of the exchanges, but the exact timing of each program may be altered through mutual agreement with the Department of State.

OPTIONAL All-Alumni Conference: Applicants may propose to implement an All-Alumni Conference, a follow-on gathering in a third country, for all 200 alumni approximately four to six months after the set of programs during summer 2008. Only one applicant will be selected to conduct the conference. The organization selected for the final follow-on gathering will be assigned responsibility to coordinate with other grantee organizations to track and support all alumni. Approximate funding available is $250,000. Note: A proposal that includes an All-Alumni Conference will have this component reviewed separately from the other three mandatory program components, using the same published review criteria.

The activity will help reinforce the lessons of the exchanges, acquaint both summer cohorts of alumni with each other, and demonstrate the impact of the program. A conference or seminar setting is preferred and will also include some additional practical skills training, although that will be secondary to reinforcing the topics of the U.S. programs. The activity will have several purposes, including (1) to ensure that alumni have an opportunity to engage with each other in activities that will help them continue their experience; and (2) to provide a resource that can be used to expand and enhance the U.S. programs.

II. Award Information

Type of Award: Grant Agreement.

Fiscal Year Funds: Prior year USAID resources transferred to ECA for obligation in FY-2007.

Approximate Total Funding: $2,312,500.

Approximate Number of Awards: Three.

Floor of Award Range: $400,000.

Ceiling of Award Range: $2,312,500.

Anticipated Award Date: March 15, 2007, pending availability of funds.

Anticipated Project Completion Date: Approximately 24 months after start date.

Additional Information: Pending successful implementation of this program and the availability of funds in subsequent fiscal years, it is ECA's intent to renew these grants for two additional fiscal years before openly competing them again.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs that are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

a. Bureau grant guidelines require that organizations with less than four years experience in conducting international exchanges be limited to $60,000 in Bureau funding. ECA anticipates awarding grant in amounts over $60,000 to support program and administrative costs required to implement this exchange program. Therefore, organizations with less than four years experience in conducting international exchanges are ineligible to apply under this competition. The Bureau encourages applicants to provide maximum levels of cost sharing and funding in support of its programs.

IV. Application and Submission Information

Note: Please read the complete announcement before sending inquiries or submitting proposals. Once the RFGP deadline has passed, Bureau staff may not discuss this competition with applicants until the proposal review process has been completed.

IV.1 Contact Information To Request an Application Package

Please contact the Youth Programs Division (ECA/PE/C/PY), Room 224, U.S. Department of State, SA-44, 301 4th Street, SW., Washington, DC 20547, Telephone (202) 453-8149, Fax (202) 453-8169, E-mail: LevensteinsAI@state.gov to request a Solicitation Package. Please refer to the Funding Opportunity Number (ECA/PE/C/PY-07-10) located at the top of this announcement when making your request.

Alternatively, an electronic application package may be obtained from http://www.grants.gov/. Please see section IV.3f for further information.

The Solicitation Package contains the Proposal Submission Instruction (PSI) document, which consists of required application forms and standard guidelines for proposal preparation.

It also contains the Project Objectives, Goals and Implementation (POGI) document, which provides specific information, award criteria, and budget instructions tailored to this competition.

Please specify Bureau Program Officer Astrida Levensteins and refer to the Funding Opportunity Number located at the top of this announcement on all other inquiries and correspondence.

IV.2. To Download a Solicitation Package Via Internet

The entire Solicitation Package may be downloaded from the Bureau's Web site at http://exchanges.state.gov/education/rfgps/menu.htm, or from the Grants.gov Web site at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 form that is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence To All Regulations Governing The J Visa. The Office of Citizen Exchanges of the Bureau of Educational and Cultural Affairs is the official program sponsor of the exchange program covered by this RFGP, and an employee of the Bureau will be the Responsible Officer for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If the applicant organization has experience as a designated Exchange Visitor Program Sponsor, the applicant should discuss its record of compliance with 22 CFR part 62 et. seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program. Requests for DS-2019 forms will be submitted to Bureau Program Officer Astrida Levensteins at least 100 days before the beginning of travel to the U.S.

A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 203-5029. FAX: (202) 453-8640.

IV.3d.2 Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please take the following information into consideration when preparing your budget:

IV.3e.1. Applicants must submit a comprehensive budget for the entire program. Awards may not exceed the amount specified. There must be a summary budget as well as breakdowns reflecting both administrative and program budgets. Applicants applying to implement more than one project must provide separate subbudgets for each.

Please refer to the other documents in the Solicitation Package for complete budget guidelines and formatting instructions.

IV.3f. Application Deadline and Methods of Submission:

Application Deadline Date: December 13, 2006.

Reference Number: ECA/PE/C/PY-07-10.

Methods of Submission

Applications may be submitted in one of two ways:

1. In hard-copy, via a nationally recognized overnight delivery service (i.e., DHL, Federal Express, UPS, Airborne Express, or U.S. Postal Service Express Overnight Mail, etc.), or

2. Electronically through http://www.grants.gov.

Along with the Project Title, all applicants must enter the above Reference Number in Box 11 on the SF-424 contained in the mandatory Proposal Submission Instructions (PSI) of the solicitation document.

IV.3f.1 Submitting Printed Applications. Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original, one fully-tabbed copy, and six copies of the application with Tabs A-E (for a total of 8 copies) should be sent to: U.S. Department of State, SA-44, Bureau of Educational and Cultural Affairs, Ref.: ECA/PE/C/PY-07-10, Program Management, ECA/EX/PM, Room 534, 301 4th Street, SW., Washington, DC 20547.

Applicants must also submit the executive summary, proposal narrative, budget section, and any important appendices as e-mail attachments in Microsoft Word and Excel to the following e-mail address: LeventeinsAI@state.gov. In the e-mail message subject line, include the name of the applicant organization and the partner country.

IV.3f.2 Submitting Electronic Applications. Applicants have the option of submitting proposals electronically through Grants.gov (http://www.grants.gov). Complete solicitation packages are available at Grants.gov in the “Find” portion of the system. Please follow the instructions available in the “Get Started” portion of the site (http://www.grants.gov/GetStarted).

Applicants have until midnight (12 a.m.) Washington, DC time of the closing date to ensure that their entire application has been uploaded to the Grants.gov site. Applications uploaded to the site after midnight of the application deadline date will be automatically rejected by the grants.gov system, and will be technically ineligible.

Applicants will receive a confirmation e-mail from Grants.gov upon the successful submission of an application. ECA will not notify you upon receipt of electronic applications.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants) resides with the Bureau's Grants Officer.

Review Criteria

Please see the review criteria in the accompanying Project Objectives, Goals, and Implementation (POGI) document.

VI. Award Administration Information

VI.1a. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following websites for additional information: http://www.whitehouse.gov/omb/grants. http://exchanges.state.gov/education/grantsdiv/terms.htm#articleI.

VI.3. Reporting Requirements

You must provide ECA with a hard copy original plus one copy of the following reports:

(1) A final program and financial report no more than 90 days after the expiration of the award;

(2) Interim reports, as required in the Bureau grant agreement.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements

Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three workdays prior to the official opening of the activity.

VII. Agency Contacts

For questions about this announcement, contact: Astrida Levensteins, Program Officer, Youth Programs Division (ECA/PE/C/PY), Room 224, U.S. Department of State, SA-44, 301 4th Street, SW., Washington, DC 20547, Telephone (202) 453-8149, Fax (202) 453-8169, E-mail: LevensteinsAI@state.gov.

All correspondence with the Bureau concerning this RFGP should reference the above title and number ECA/PE/C/PY-07-10.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: October 18, 2006.
Dina Habib Powell,
Assistant Secretary for Educational and Cultural Affairs, Department of State.

[FR Doc. E6-17977 Filed 10-25-06; 8:45 am]

BILLING CODE 4710-05-P